DEPARTMENT OF ENERGY

Federal Energy Regulatory Commission

[Docket No. RP01-243-000]

Pine Needle LNG Company, LLC; Notice of Tariff Filing

March 6, 2001.

Take notice that on February 28, 2001, Pine Needle LNG Company, LLC (Pine Needle) tendered for filing to its FERC Gas Tariff, Original Volume No. 1, certain new and revised tariff sheets, which are enumerated in Appendix A to the filing, with an effective date of March 31, 2001.

Pine Needle proposes herein to revise its tariff to reflect new customer services and business practices that will be available on Pine Needle's Electronic Bulletin Board (EBB). As is described more fully herein, Pine Needle's proposed tariff modifications relate specifically to the following areas:

• Formalizing and establishing certain pipeline business practices including those relating to capacity release and scheduling equality;

• Revising certain billing and payment practices; and

• Modifying and formalizing certain pipeline business practices including establishing daily rates and adopting the GISB standard Trading Partner Agreement.

Pine Needle states that it is serving copies of the filing to its affected customers, interested State Commissions and other interested parties.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See 18 CFR 385.2001(a)(1)(iii) and the instructions on the Commission's web site at ­ http://www.ferc.fed.us/efi/doorbell.htm.

David P. Boergers,
Secretary.

[FR Doc. 01-5994 Filed 3-9-01; 8:45 am]

BILLING CODE 6717-01-M